DEPARTMENT OF COMMERCE

National Oceanic and Atmospheric Administration

National Science Foundation

[Docket 000127019-0323-02; I.D. 111500D]

RIN: 0648-ZA77

Announcement of Funding Opportunity to Submit Proposals for the Global Ocean Ecosystems Dynamics Project

AGENCIES: Center for Sponsored Coastal Ocean Research/Coastal Ocean Program (CSCOR/COP), National Ocean Service (NOS), National Oceanic and Atmospheric Administration (NOAA), Department of Commerce (DOC); and the National Science Foundation (NSF), Directorate for Geosciences, Division of Ocean Sciences (OCE).

ACTION: Announcement of Funding Opportunity for financial assistance for project grants and cooperative agreements.

SUMMARY: The purpose of this document is to advise the public that CSCOR/COP and NSF are soliciting up to 4-year proposals for the GLOBEC-01 program as part of a Federal research partnership. Funding is contingent upon the availability of Federal Fiscal Year 2002 appropriations. It is anticipated that final recommendations for awards will be made in early FY 2002.

DATES: The deadline for receipt of proposals in the COP office is 3 p.m. local time July 10, 2001. Note that late-arriving applications provided to a delivery service, on or before, July 9, 2001, with delivery guaranteed before 3 p.m., EST, on July 10, 2001, will be accepted for review if the applicant can document that the application was provided to the delivery service with delivery to the address listed below guaranteed prior to the specified closing date and time; and in any event, the proposals are received in the COP office by 3 p.m. EST, no later than two business days following the closing date.

ADDRESSES: Submit the original and 19 copies of your proposal to Coastal Ocean Program Office (GLOBEC-01), SSMC#4, 8th Floor, Station 8243, 1305 East-West Highway, Silver Spring, MD 20910. NOAA and COP Standard Form Applications with instructions are accessible on the COP Internet site (http://www.cop.noaa.gov) under the COP Grants Support Section, Part D, Application Forms for Initial Proposal Submission. Forms may be viewed, and in most cases, filled in by computer. All forms must be printed, completed, and mailed to CSCOR/COP with original signatures. Blue ink for original signatures is recommended but not required. If you are unable to access this information, you may call CSCOR/COP at 301-713-3338 to leave a mailing request.

FOR FURTHER INFORMATION CONTACT: Technical Information: Elizabeth Turner, GLOBEC Program Manager, COP Office, 603-862-4680, Internet: Elizabeth.Turner@noaa.gov; or Dr. Phillip Taylor, NSF Division of Ocean Sciences, 703-292-8582, Internet: prtaylor@nsf.gov

Business Management Information: Leslie McDonald, COP Grants Administrator, Internet: Leslie.McDonald@noaa.gov

SUPPLEMENTARY INFORMATION:

Electronic Access

Data collected under the U.S. GLOBEC Northwest Atlantic/Georges Bank Program and associated documentation is available to all researchers at http://globec.whoi.edu/globec-dir/globec.doc.html under protocols established under the U.S. GLOBEC Data Policy.

The U.S. GLOBEC Report 10 is available at: http://www.usglobec.org/reports/datapol/datapol.contents.html). For a list of funded projects during phases I-III of the Georges Bank Study, consult http://globec.whoi.edu/globec-dir/list-of-all-projects.html.

Publications resulting from U.S. GLOBEC studies are catalogued at: http://www.usglobec.org/misc/funded.contributions.html

The U.S. GLOBEC Report No 6 is available at: http://www.usglobec.org/reports/reports.home.html#6.

For information concerning the NOAA Coastal Ocean Program Decision Analysis Series report, see: http://www.cop.noaa.gov/pubs/das.html.

For information concerning the NSF form 1239, see: http://www.nsf.gov/cgi-bin/getpub?99form1239.

Background

Program Description

For complete Program Description and Other Requirements for the COP, see the General Grant Administration Terms and Conditions of the Coastal Ocean Program published in the Federal Register (65 FR 62706, October 19, 2000) and at the COP home page.

Global Ocean Ecosystems Dynamics (U.S. GLOBEC) is a component of the U.S. Global Change Research Program, with the goals of understanding and ultimately predicting how populations of marine animal species (holozooplankton, fish and benthic invertebrates) respond to natural and anthropogenic changes in global climate. U.S. GLOBEC is also the U.S. component of the GLOBEC International program, a core project of the International Geosphere-Biosphere Program, with co-sponsorship from the Scientific Committee on Oceanic Research and the Intergovernmental Oceanographic Commission. This notice is under the auspices of the U.S. GLOBEC program within NSF/OCE and the regional ecosystem studies and U.S. GLOBEC initiatives of NOAA's COP.

The GLOBEC Northwest Atlantic study of Georges Bank and environs has thus far consisted of a three-phase study of the continental margin and shelf in the context of the larger oceanic boundary region and the processes and phenomena that affect the ecosystem of the Bank. The first three phases of this cooperative, inter-agency research program have supported integrated, multi-investigator, inter-disciplinary programs of modeling, retrospective analysis, and monitoring and process field studies. This coordinated effort has the overall goal of understanding of the potential impacts of climate variability and change on the ecosystem dynamics of Georges Bank with the aim of improving predictability and management of U.S. marine resources.

This request for proposals constitutes the initiation of the fourth and final phase of the U.S. GLOBEC/Northwest Atlantic Program. Its principal objective is to foster integration and synthesis of data collected during the field phases of the program and other relevant data and knowledge, through group interactions and modeling activities; no new field work will be supported. The Phase IV initiative is absolutely open to the participation of scientists without past involvement in U.S. GLOBEC as well as current U.S. GLOBEC investigators. The organization of principal investigators and proposals with emphasis on the integration of observations and models, and the close coordination of research groups with one another, will be vital to the success of the Phase IV synthesis effort.

Research Program Goals

Within the overall goal outlined above, this Northwest Atlantic/Georges Bank Program continues to have three specific goals:

(1) To determine the processes that control the Georges Bank circulation and transport of biological and chemical materials in a strongly tidal and wind-driven system, and to determine how physical and biological processes control the population dynamics of the target organisms (early life stages of cod and haddock and the copepods Calanus finmarchicus and Pseudocalanus spp.) in the Northwest Atlantic/Georges Bank area; and

(2) To embody this understanding in conceptual and quantitative models capable of elucidating ecosystem dynamics and responses on a broad range of space and time scales; and

(3) To understand the effects of climate variability and climate change on the distribution, abundance and production of the target organisms.

The specific objectives and scientific questions related to these goals are described in greater detail in U.S. GLOBEC Northwest Atlantic Implementation Plan (Report No. 6) referenced earlier in this document. This report should be consulted in responding to this announcement. An online version is available under the SUPPLEMENTARY INFORMATION section of this document.

Research Approach

Phase IV of the U.S. GLOBEC Northwest Atlantic/Georges Bank Program will emphasize a number of topic areas. Examples of appropriate topics to be considered are described here. The intent is for coordinated activities that collectively address the program goals. It is anticipated that proposed work may address more than one of these topic areas.

(1) Synthesis of Data Sets

Integration of broad-scale, process, and vital-rate study components of the program, and of observational, retrospective and modeling analyses are critical in the development of the synthesis research efforts. Investigators who have not been involved in the first three phases of the program, but who have new ideas about how to analyze or model currently available data sets are strongly encouraged to participate. Investigators involved in the first three field phases of the program are encouraged to collaborate in the integration of their data sets with other data sets to facilitate multi-disciplinary approaches to understanding factors affecting the dynamics of the target organisms. Topics under this initiative include, but are not limited to:

(a) Occurrence, abundance, and distribution of target species: Broad-scale studies include integration and synthesis of data collected during Phases I-III from shipboard surveys, moorings, and satellites. The emphasis is on the determination of the distribution and abundance of the target organisms in relation to their physical environment during the pelagic period of cod and haddock early life history stages. Creation of integrated data sets that can be used for inter-annual comparisons of population processes and their coupling to the physical structure and variability of the environment to answer the key questions posed in Phases I-III is of fundamental importance.

(b) Processes that regulate the occurrence, abundance and distribution of target species: Synthesis of process and vital-rate studies will include the integration of field and laboratory data designed to investigate specific biological and physical processes associated with vertical mixing and stratification with regional exchanges of water and organisms on and off Georges Bank, and with the mechanisms and dynamics of cross-frontal exchanges of water and organisms to understand critical forcing mechanisms. Examples include: synthesis of the experimental measurements of vital rates of target species to determine if the vertical distribution and vital rates of target species are correlated with mixing processes; examination of physical exchanges of water across the boundary of the Bank to determine how they influence population abundance and how exchange of the biota is affected by vertical migration behavior; and examination of how plankton patchiness, predator-prey interactions, and vital rates are influenced by turbulence on all scales.

(2) Physical/biological Modeling

The development and use of conceptual and quantitative models to investigate physical and coupled physical/biological processes in the Georges Bank ecosystem have been emphasized throughout the U.S. GLOBEC Northwest Atlantic/Georges Bank program. Three-dimensional circulation models have been used to study the influence of seasonal stratification and wind forcing on flow to and over the Bank, using both idealized and realistic regional bathymetry and forcing. The role of advection, turbulent mixing, nutrient supply, insolation, predation, and other factors on the early population development of the target species has been examined using both continuous and individual-based models. These studies have involved both diagnostic and predictive models, and more recently included data assimilation to improve model accuracy and understanding of key processes. In Phase IV, these and other model approaches will be encouraged, with the following multiple aims: (a) To improve understanding of the key physical and biological processes which affect the target species on Georges Bank; (b) to help integrate and synthesize the various physical and biological data collected during the field program; and (c) to begin coupling the lower and upper trophic level models of the Georges Bank ecosystem.

Ideally, a product of Phase IV will be quantitative coupled physical/biological ecosystem models that embody the collective knowledge learned in the Georges Bank program and that can be used to investigate the Bank ecosystem response to future climate variability.

(3) Upstream and Broader Scale Effects Influenced by Climate Change

Waters from the Labrador Sea and Gulf of St. Lawrence flow southwestward along the eastern Canadian slope and shelf and can be traced downstream to the Middle Atlantic Bight. Thus, the planktonic populations located off eastern Canada are connected with those of the Gulf of Maine/Georges Bank region and points south. Results from phases I to III have shown that these advective fluxes are important contributors to the target species dynamics in the Gulf of Maine and on Georges Bank. Hydrographic changes observed in the Georges Bank/Gulf of Maine region are now known to be part of a larger scale regional change likely associated with ocean basin scale atmospheric forcings (North Atlantic Oscillation).

In Phase IV, particular emphasis will be placed on the inter-regional coupling of target species populations through the larger scale current systems. This initiative will provide a unique opportunity for evaluation of large-scale environmental influences. In this regard, the Atlantic component of Canada GLOBEC investigated the effect of environment on gadid fish and copepods using field observations, laboratory experiments, and numerical models. Integration and collective analysis of these data sets are encouraged. One mutual question is how much regional variability in zooplankton abundance on the continental shelf is generated locally as opposed to being controlled by advective forcing from slope and shelf currents or the adjoining open ocean? Together with historical data sets, recent observations made during Phases I-III can be used to evaluate the affects of environment on zooplankton populations and recruitment of gadid stocks.

At these scales, it is possible to address the effects of climate variability as manifest through changes in the shelf and Slope Water transports and water properties. For example, general circulation model products could yield insight into the nature and magnitude of historic or projected change, the historic hydrographic record could be examined for similar information, and these changes could be imposed on simulations of the coupled physical/biological shelf system. Studies that investigate this regional manifestation of climate variability are encouraged.

(4) Comparative Regional Studies and Climate Change

Ecosystem studies similar to U.S. GLOBEC and Canadian GLOBEC have been conducted in other regions of the North Atlantic Ocean. For example, the ICES Cod and Climate Change program and Trans-Atlantic Studies of Calanus (TASC) have emphasized studies of the biology of cod and the copepod Calanus in the northeastern Atlantic and their coupling to large-scale and meso-scale circulation. There exists an opportunity for regional comparisons across the North Atlantic. Such studies should emphasize comparison at a fundamental level specifically addressing vital rates of the target species (fecundity, feeding, growth as a function of food levels and temperature), behavior, predation, trophic interactions, and source populations. In addition, the extent and timing of zooplankton transport among the regions and the role of banks and nearby basins as spawning/nursery areas for gadids and their zooplanktonic prey need to be examined. In phase IV, such basin-scale studies will be encouraged.

Recent results from these programs show that regional Calanus finmarchicus fluctuations are linked to the North Atlantic Oscillation and thus are sensitive to climate variability and change. To understand the linkage, there is a need for more comprehensive modeling to integrate basin-scale ocean and atmospheric models with near shore regional biophysical models in order to identify and separate processes which are linked to the large scale forcing from those which act more locally.

(5) Development of Indices to Characterize Environmental and Ecosystem Status and Change

A more complete understanding of the Georges Bank ecosystem gained through the U.S. GLOBEC program should allow for the design of better, more efficient, and more informative, monitoring programs in the region. Achieving this improvement will involve determining indices for the physical and lower trophic level system components that best characterize the status of the ecosystem, particularly in relation to potential higher trophic level production. An important goal is for the indices to identify the environmental influence on fish recruitment variability that can be incorporated into the assessment of the fish stocks in the region. Indices may be derived from directly measured parameters or from output of specific configurations of U. S. GLOBEC biological-physical models.

One form that this type of synthesis may take is a written documentation of the state of the Georges Bank ecosystem during the GLOBEC years. Such a document should include an overview of the GLOBEC NWA program and how it led to the identification of indices, and use of these variables in summarizing the state of the ecosystem. This could be published initially as a NOAA Coastal Ocean Program Decision Analysis Series report, but could also be updated on a regular basis as a tool to provide regional managers, such as the New England Fishery Management Council, with ecosystem information. Information on the Decision Analysis Series is shown at a web site listed earlier in this document under the SUPPLEMENTARY INFORMATION section.

Part I: Schedule and Proposal Submission

This document requests full proposals only. The provisions for proposal preparation provided here are mandatory. Proposals received after the published deadline or proposals that deviate from the prescribed format will be returned to the sender without further consideration. Information regarding this announcement, additional background information, and required Federal forms are available on the COP home page.

Proposals may be submitted by institutions in support of individual investigators or small groups. Synergistic collaboration among researchers and collaboration or partnerships with industry or government laboratories is encouraged when appropriate. Group and collaborative proposals involving more than one institution must be submitted as a single administrative package from one of the institutions involved. Foreign institutions are not eligible for funding through this announcement.

Full Proposals

Applications submitted in response to this announcement require an original proposal and 19 proposal copies at time of submission. This includes color or high-resolution graphics, unusually-sized materials (not 8.5" x 11″ or 21.6 cm x 28 cm), or otherwise unusual materials submitted as part of the proposal. For color graphics, submit either color originals or color copies. The stated requirements for the number of proposal copies provide for a timely review process. Facsimile transmissions and electronic mail submission of full proposals will not be accepted.

Required Elements

All recipients are to closely follow the instructions and guidelines in the preparation of the standard NOAA Application Forms and Kit requirements listed earlier in this document under the SUPPLEMENTARY INFORMATION section. Each proposal must also include the following eight elements:

(1) Signed Summary title page: The title page should be signed by the Principal Investigator (PI) and the institutional representative. The Summary Title page identifies the project's title starting with the acronym GLOBEC-01, a short title (less than 50 characters), and the PI’s name and affiliation, complete address, phone, FAX, and E-mail information. The requested budget for each fiscal year should be included on the Summary Title page. Multi-institution proposals must include signed Summary Title pages from each institution.

(2) One-page abstract/project summary: The Project Summary (Abstract) Form, which is to be submitted at time of application, shall include an introduction of the problem, rationale, scientific objectives and/or hypotheses to be tested, and a brief summary of work to be completed. The prescribed COP format for the Project Summary Form can be found on the COP Internet site under the COP Grants Support section, Part D.

The summary should appear on a separate page, headed with the proposal title, institution(s), investigator(s), total proposed cost, and budget period. It should be written in the third person. The summary is used to help compare proposals quickly and allows the respondents to summarize these key points in their own words.

(3) Statement of work/project description: The proposed project must be completely described, including identification of the problem, scientific objectives, proposed methodology, relevance to the GLOBEC-01 program goals, and its scientific priorities. The project description section (including relevant results from prior support) should not exceed 15 pages. Page limits are inclusive of figures and other visual materials, but exclusive of references and milestone chart.

Project management should be clearly identified with a description of the functions of each PI within a team. It is important to provide a full scientific justification for the research; do not simply reiterate justifications presented in this document. This section should also include:

(a) The objective for the period of proposed work and its expected significance;

(b) The relation to the present state of knowledge in the field and relation to previous work and work in progress by the proposing principal investigator(s);

(c) A discussion of how the proposed project lends value to the program goals, and

(d) Potential coordination with other investigators.

(e) References cited: Reference information is required. Each reference must include the name(s) of all authors in the same sequence in which they appear in the publications, the article title, volume number, page numbers, and year of publications. While there is no established page limitation, this section should include bibliographic citations only and should not be used to provide parenthetical information outside of the 15-page project description.

(4) Milestone chart: Provide time lines of major tasks covering the duration of the proposed project, up to 60 months.

(5) Budget and Application Forms: Both NOAA and COP-specific application forms may be obtained at the COP Grants website. Forms may be viewed, and in most cases, filled in by computer. All forms must be printed, completed, and mailed to CSCOR/COP; original signatures in blue ink are encouraged. If applicants are unable to access this information they may call the CSCOR/COP grants administrator listed in the heading Electronic Access

At time of proposal submission, all applicants shall submit the Standard Form, SF-424 (Rev 7-97) Application for Federal Assistance, to indicate the total amount of funding proposed for the whole project period. Applicants will also submit a COP Summary Proposal Budget Form for each fiscal year increment. Multi-institution proposals must include a Summary Proposal Budget Form for each institution. Use of this budget form will provide for a detailed annual budget and for the level of detail required by the COP program staff to evaluate the effort to be invested by investigators and staff on a specific project. The COP budget form is compatible with forms in use by other agencies that participate in joint projects with COP and can be found on the COP home page under COP Grants Support, Part D.

All applicants shall include a budget narrative and a justification to support all proposed budget categories. The SF-424A, Budget Information (Non-Construction) Form, shall be requested from only those recipients subsequently recommended for a NOAA award. Proposals subsequently selected for NSF funding will be required to comply with that agency’s grants administration forms and paperwork requirements.

(6) Biographical sketch: Abbreviated curriculum vitae, two pages per investigator, are sought with each proposal. Include a list of up to five publications most closely related to the proposed project and up to five other significant publications. A list of all persons (including their organizational affiliation), in alphabetical order, who have collaborated on a project, book, article, or paper within the last 48 months should be included. If there are no collaborators, this should be so indicated. Students, post-doctoral associates, and graduate and postgraduate advisors of the PI should also be disclosed. This information is used to help identify potential conflicts of interest or bias in the selection of reviewers.

(7) Current and pending support: NSF requires information on current and pending support of all proposers. Describe all current and pending support for all PIs, including subsequent funding in the case of continuing grants. A model format is shown at the webside listed in this document under Supplementary Information. Use of this form is optional; however, the categories of information included on the NSF Form 1239 must be provided. All current support from whatever source (e.g., Federal, State or local government agencies, private foundations, industrial or other commercial organizations) must be listed.

The proposed project and all other projects or activities requiring a portion of time of the PI and other senior personnel should be included, even if they receive no salary support from the project(s). The total award amount for the entire award period covered (including indirect costs) should be shown as well as the number of person-months per year to be devoted to the project, regardless of source of support.

(8) Proposal format and assembly: The original proposal should be clamped in the upper left-hand corner, but left unbound. The 20 required copies can be stapled in the upper left-hand corner or bound on the left edge. The page margin must be one inch (2.5 cm) margins at the top, bottom, left and right, and the type face standard 12 points size must be clear and easily legible.

Part II: Further Supplementary Information

(1) Program authorities: For a list of all program authorities for the Coastal Ocean Program, see the General Grant Administration Terms and Conditions of the Coastal Ocean Program published in the Federal Register (65 FR 62706, October 19, 2000) and at the COP home page. Specific Authority cited for this Announcement is U.S.C. 883(d) for the Coastal Ocean Program and the National Science Foundation Act of 1950, as amended (42 U.S.C. 1861-75), for the National Science Foundation.

(2) Catalog of Federal Domestic Assistance (CFDA) Number: 11.478 Coastal Ocean Program and 47.050 for the Directorate for Geosciences, National Science Foundation.

(3) Program description: For complete COP program descriptions, see the General Grant Administration Terms and Conditions of the Coastal Ocean Program published in the Federal Register (65 FR 62706, October 19, 2000).

(4) Funding availability: Funding is contingent upon receipt of fiscal years 2002-2005 Federal appropriations. The anticipated maximum funding for GLOBEC activities under this announcement is estimated at $2M per year over 4 years (FY2002-FY2005). Priority consideration will be given to a set of proposals that provide balanced coverage of the overall GLOBEC science goals stated in this Document, and avoid duplication of completed or ongoing work.

If an application is selected for funding, NSF and NOAA have no obligation to provide any additional prospective funding in connection with that award in subsequent years. Renewal of an award to increase funding or extend the period of performance is based on satisfactory performance and is at the total discretion of the funding agencies. Not all proposals selected will receive funding for the entire duration of the program.

Moreover, start dates for some proposals may be delayed, or proposals may be funded for a portion of the four years only. Proposals selected for funding by NSF will need to submit additional forms required by that agency. Publication of this notice does not obligate any agency to any specific award or to obligate any part of the entire amount of funds available. Recipients and subrecipients are subject to all Federal laws and agency policies, regulations, and procedures applicable to Federal financial assistance awards.

(5) Matching requirements: None.

(6) Type of funding instrument: Project Grants, Interagency Agreements, or NOAA Financial Operating Plan transfers.

(7) Eligibility criteria: For complete eligibility criteria for the COP, see COP’s General Grant Administration Terms and Conditions annual document in the Federal Register (65 FR 62706, October 19, 2000) and the COP home page. Eligible Applicants are institutions of higher education, not-for-profit institutions, international organizations, state, local and Indian tribal governments and Federal agencies. COP will accept proposals that include foreign researchers as collaborators with a researcher who is affiliated with a U.S. academic institution, Federal agency, or other non-profit organization.

Applications from non-Federal and Federal applicants will be competed against each other. Proposals selected for funding from non-Federal applicants will be funded through a project grant or cooperative agreement under the terms of this notice. Proposals selected for funding from NOAA employees shall be effected by an intra-agency fund transfer. Proposals selected for funding from a non-NOAA Federal agency will be funded through an inter-agency transfer. PLEASE NOTE: Before non-NOAA Federal applicants may be funded, they must demonstrate that they have legal authority to receive funds from another Federal agency in excess of their appropriation. Because this announcement is not proposing to procure goods or services from applicants, the Economy Act (31 USC 1535) is not an appropriate legal basis.

(8) Award period: Full Proposals can cover a project period from 1 to 4 years, i.e. from date of award for up to 48 consecutive months. Multi-year project period funding may be funded incrementally on an annual basis; but once awarded, multi-year projects will not compete for funding in subsequent years. For NOAA awards, each annual award shall require a Statement of Work that can be easily separated into annual increments of meaningful work which represent solid accomplishments if prospective funding is not made available, or is discontinued.

(9) Indirect costs: If Indirect costs are proposed, the following statement applies: The total dollar amount of the indirect costs proposed in an application must not exceed the indirect cost rate negotiated and approved by a cognizant Federal agency prior to the proposed effective date of the award.

(10) Application forms and kit: For complete information on application forms for the COP, see COP’s General Grant Administration Terms and Conditions annual Document in the Federal Register (65 FR 62706, October 19, 2000); the COP home page; and the information given under Required Elements, paragraph (5) Budget.

(11) Project funding priorities: For description of project funding priorities, see COP’s General Grant Administration Terms and Conditions annual notification in the Federal Register (65 FR 62706, October 19, 2000) and at the COP home page.

(12) Evaluation criteria: For complete information on evaluation criteria, see COP’s General Grant Administration Terms and Conditions annual Document in the Federal Register (65 FR 62706, October 19, 2000) and at the COP home page.

(13) Selection procedures: For complete information on selection procedures, see COP’s General Grant Administration Terms and Conditions annual Document in the Federal Register (65 FR 62706, October 19, 2000) and at the COP home page. All proposals received under this specific Document will be evaluated and ranked individually in accordance with the assigned weights of the above evaluation criteria by independent peer mail review and panel review.

At conclusion of the review process, the NOAA GLOBEC Program Manager or the NSF Biological Oceanography Program Director or staff will notify lead proposers for those projects recommended for support, and negotiate revisions in the proposed work and budget. Final awards will be issued by the agency responsible for a specific project after receipt and processing of any specific materials required by the agency.

(14) Other requirements: For a complete description of other requirements, see COP’s General Grant Administration Terms and Conditions annual Document in the Federal Register (65 FR 62706, October 19, 2000) and at the COP home page. NOAA has specific requirements that environmental data be submitted to the National Oceanographic Data Center.

(15) Pursuant to Executive Orders 12876, 12900 and 13021, the Department of Commerce, National Oceanic and Atmospheric Administration (DOC/NOAA) is strongly committed to broadening the participation of Historically Black Colleges and Universities, Hispanic Serving Institutions and Tribal Colleges and Universities in its educational and research programs. The DOC/NOAA vision, mission and goals are to achieve full participation by Minority Serving Institutions (MSI) in order to advance the development of human potential, to strengthen the nation’s capacity to provide high-quality education, and to increase opportunities for MSIs to participate in, and benefit from, Federal Financial Assistance programs. DOC/NOAA encourages all applicants to include meaningful participation of MSIs.

(16) Applicants are hereby notified that they are encouraged, to the greatest practicable extent, to purchase American-made equipment and products with funding provided under this program.

(17) Intergovernmental review: Applications under this program are not subject to Executive Order 12372, “Intergovernmental Review of Federal Programs.”

(18) This notification involves collection-of-information requirements subject to the Paperwork Reduction Act. The use of Standard Forms 424, 424A, 424B, and SF-LLL have been approved by the Office of Management and Budget (OMB) under control numbers 0348-0043, 0348-0044, 0348-0040 and 0348-0046.

The following requirements have been approved by OMB under control number 0648-0384; a Summary Proposal Budget Form (30 minutes per response), a Project Summary Form (30 minutes per response), a standardized format for the Annual Performance Report (5 hours per response), a standardized format for the Final Report (10 hours per response), and the submission of up to 20 copies of proposals (10 minutes per response). The response estimates include the time for reviewing instructions, searching existing data sources, gathering and maintaining the data needed, and completing and reviewing the collection of information. Send comments regarding this burden estimate or any other aspect of this collection of information, including suggestions for reducing this burden, to Leslie.McDonald@noaa.gov. Copies of these forms and formats can be found on the COP home page under Grants Support sections, Parts D and F.

Proposals to NSF must include the NSF Form l239 for Current and Pending Support. The NSF Form l239 for Current and Pending Support is also cleared as part of the NSF Grant Proposal Guide and Proposal Forms Kit under OMB Number 3145-0058 with an expiration date of June 2002.

Notwithstanding any other provision of law, no person is required to respond to, nor shall any person be subject to a penalty for failure to comply with a collection of information subject to the requirements of the Paperwork Reduction Act, unless that collection displays a currently valid OMB control number.

February 9, 2001.
Donald Heinrichs,
Interim Director, Division of Ocean Sciences, National Science Foundation.
Dated: February 13, 2001.
Ted I. Lillestolen,
Deputy Assistant Administrator, National Ocean Service, National Oceanic and Atmospheric Administration.

[FR Doc. 01-6892 Filed 3-19-01; 8:45 am]

BILLING CODE 3510-22-S